DEPARTMENT OF LABOR

Employee Benefits Security Administration

158th Meeting of the Advisory Council on Employee Welfare and Pension Benefit Plans; Notice of Teleconference Meeting

Pursuant to the authority contained in Section 512 of the Employee Retirement Income Security Act of 1974 (ERISA), 29 U.S.C. 1142, the 158th open meeting of the Advisory Council on Employee Welfare and Pension Benefit Plans (also known as the ERISA Advisory Council) will be held via teleconference on September 28, 2011.

The meeting will take place at the U.S. Department of Labor, 122 C Street, NW., Suite 400, Washington, DC 20210. Public access is available only in this room (i.e. not by telephone). The meeting will run from 10 a.m. to approximately 4 p.m. The purpose of the open meeting is to discuss reports/recommendations for the Secretary of Labor on the issues of (1) Current Challenges and Best Practices for ERISA Compliance for 403(b) Plan Sponsors, (2) Hedge Funds and Private Equity Investments, and (3) Privacy and Security Issues Affecting Employee Benefit Plans (other than health care plans). Descriptions of these topics are available on the Advisory Council page of the EBSA Web site at http://www.dol.gov/ebsa/aboutebsa/erisa_advisory_council.html.

Organizations or members of the public wishing to submit a written statement may do so by submitting 30 copies on or before September 21, 2011 to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Statements deemed relevant by the Advisory Council and received on or before August 19, 2011 will be included in the record of the meeting and available in the EBSA Public Disclosure room, along with witness statements. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by September 21, 2011 at the address indicated.

Signed at Washington, DC this 2nd day of September, 2011.
Michael L. Davis,
Deputy Assistant Secretary, Employee Benefits Security Administration.

[FR Doc. 2011-22994 Filed 9-7-11; 8:45 am]

BILLING CODE 4510-29-P